DEPARTMENT OF TRANSPORTATION

Federal Aviation Administration

14 CFR Part 39

[Docket No. FAA-2008-0642; Directorate Identifier 2008-NM-039-AD]

RIN 2120-AA64

Airworthiness Directives; Empresa Brasileira de Aeronautica S.A. (EMBRAER) Model EMB-135 Airplanes, and Model EMB-145, -145ER, -145MR, -145LR, -145XR, -145MP, and -145EP Airplanes

AGENCY: Federal Aviation Administration (FAA), Department of Transportation (DOT).

ACTION: Notice of proposed rulemaking (NPRM).

SUMMARY: The FAA proposes to supersede an existing airworthiness directive (AD) that applies to all EMBRAER Model EMB-135 airplanes and Model EMB-145, -145ER, -145MR, -145LR, -145XR, -145MP, and -145EP airplanes. The existing AD currently requires replacing the metallic tubes enclosing the vent and pilot valve wires in the left- and right-hand wing fuel tanks with non-conductive hoses. This proposed AD would add airplanes to the applicability of the existing AD. This proposed AD results from fuel system reviews conducted by the manufacturer. We are proposing this AD to prevent an ignition source inside the fuel tank that could ignite fuel vapor and cause a fuel tank explosion and loss of the airplane.

DATES: We must receive comments on this proposed AD by July 21, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Empresa Brasileira de Aeronautica S.A. (EMBRAER), P.O. Box 343—CEP 12.225, Sao Jose dos Campos—SP, Brazil.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2008-0642; Directorate Identifier 2008-NM-039-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On June 1, 2007, we issued AD 2007-12-17, amendment 39-15095 (72 FR 32780, June 14, 2007), for certain EMBRAER Model EMB-135 airplanes and Model EMB-145, -145ER, -145MR, -145LR, -145XR, -145MP, and -145EP airplanes. That AD requires replacing the metallic tubes enclosing the vent and pilot valve wires in the left- and right-hand wing fuel tanks with non-conductive hoses. That AD resulted from fuel system reviews conducted by the manufacturer. We issued that AD to prevent an ignition source inside the fuel tank that could ignite fuel vapor and cause a fuel tank explosion and loss of the airplane.

Actions Since Existing AD Was Issued

Since we issued AD 2007-12-17, we have been notified by the airplane manufacturer that additional airplanes are also subject to the unsafe condition identified in the existing AD.

Relevant Service Information

EMBRAER has issued Service Bulletin 145-28-0023, Revision 11, dated December 4, 2007. The procedures specified in Revision 11 of the service bulletin are essentially the same as those described in EMBRAER Service Bulletin 145-28-0023, Revision 07, dated February 7, 2007. We referred to Revision 07 of the service bulletin in AD 2007-12-17 as the appropriate source of service information for actions required in that AD for certain airplanes. However, Revision 11 of the service bulletin includes airplanes that are not identified in Revision 07. Accomplishing the actions specified in the service information is intended to adequately address the unsafe condition.

U.S. Type Certification of the Airplane

These airplane models are manufactured in Brazil and are type-certificated for operation in the United States under the provisions of section 21.29 of the Federal Aviation Regulations (14 CFR 21.29) and the applicable bilateral airworthiness agreement.

This proposed AD would supersede AD 2007-12-17 and would retain the requirements of the existing AD. This proposed AD would also add airplanes to the applicability of the existing AD.

Differences Between the Proposed AD and Service Information

This proposed AD is applicable to all EMBRAER Model EMB-135 airplanes and Model EMB-145, -145ER, -145MR, -145LR, -145XR, -145MP, and -145EP airplanes. The EMBRAER service bulletins were revised to add airplanes to the effectivities of those documents, but they do not apply to all airplanes. We have coordinated this difference with both EMBRAER and the Agência Nacional de Aviaço Civil (ANAC). It should be noted that ANAC is not issuing a parallel airworthiness directive because they have previously issued Brazilian airworthiness directive 2006-06-02, effective June 28, 2006, addressing the identified unsafe condition; that airworthiness directive is applicable to “all EMBRAER EMB-145( ) and EMB-135( ) aircraft models in operation.”

Costs of Compliance

The following table provides the estimated costs for U.S. operators to comply with this proposed AD. The average labor rate is $80 per work hour.

Estimated Costs
Action | Work hours | Parts | Cost per airplane | Number of U.S.-registered airplanes | Fleet cost
Tube replacement (required by AD 2007-12-17) | 1 | $1,121 (for Model EMB-135BJ airplanes) | $1,201 | 30 | $36,030
| 1 | $1,788 (for remaining airplanes) | 1,868 | 593 | 1,107,724
Tube replacement for additional airplanes | 1 | $1,121 (for Model EMB-135BJ airplanes) | 1,201 | 11 | 13,211
| 1 | $1,788 (for remaining additional airplanes) | 1,868 | 75 | 140,100

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-15095 (72 FR 32780, June 14, 2007) and adding the following new airworthiness directive (AD):

Empresa Brasileira de Aeronautica S.A. (EMBRAER): Docket No. FAA-2008-0642; Directorate Identifier 2008-NM-039-AD.

Comments Due Date

(a) The FAA must receive comments on this AD action by July 21, 2008.

Affected ADs

(b) This AD supersedes AD 2007-12-17.

Applicability

(c) This AD applies to all EMBRAER Model EMB-135ER, -135KE, -135KL, -135LR, and -135BJ airplanes; and all Model EMB-145, -145ER, -145MR, -145LR, -145XR, -145MP, and -145EP airplanes; certificated in any category.

Unsafe Condition

(d) This AD results from fuel system reviews conducted by the manufacturer. We are issuing this AD to prevent an ignition source inside the fuel tank that could ignite fuel vapor and cause a fuel tank explosion and loss of the airplane.

Compliance

(e) You are responsible for having the actions required by this AD performed within the compliance times specified, unless the actions have already been done.

Requirements of AD 2007-12-17 Including Additional Airplanes

Tube Replacement

(f) For airplanes identified in the applicable service bulletins specified in paragraphs (f)(1) and (f)(2) of this AD: Within 5,000 flight hours or 48 months after July 19, 2007 (the effective date of AD 2007-12-17), whichever occurs first, replace the metallic tubes enclosing the vent and pilot valve wires in the left- and right-hand wing fuel tanks with new, improved, non-conductive hoses, in accordance with the Accomplishment Instructions of the service bulletins specified in paragraph (f)(1) or (f)(2) of this AD, as applicable.

(1) For Model EMB-135ER, -135KE, -135KL, -135LR, -145, -145ER, -145MR, -145LR, -145XR, -145MP, and -145EP airplanes: EMBRAER Service Bulletin 145-28-0023, Revision 07, dated February 7, 2007.

(2) For Model EMB-135BJ airplanes: EMBRAER Service Bulletin 145LEG-28-0018, Revision 01, dated April 20, 2005.

(g) For Model EMB-135ER, -135KE, -135KL, -135LR, -145, -145ER, -145MR, -145LR, -145XR, -145MP, and -145EP airplanes that are not identified in paragraph (f)(1) of this AD: Within 5,000 flight hours or 48 months after the effective date of this AD, whichever occurs first, replace the metallic tubes enclosing the vent and pilot valve wires in the left- and right-hand wing fuel tanks with new, improved, non-conductive hoses; in accordance with the Accomplishment Instructions of EMBRAER Service Bulletin 145-28-0023, Revision 11, dated December 4, 2007.

Credit for Actions Done Using Previous Service Information

(h) Actions accomplished before the effective date of this AD in accordance with the service information specified in Table 1 of this AD are considered acceptable for compliance with the corresponding actions of this AD.

Table 1.—Acceptable EMBRAER Service Information
EMBRAER Service Bulletin | Revision level | Date
145-28-0023 | Original | April 19, 2004.
145-28-0023 | 01 | June 9, 2004.
145-28-0023 | 02 | November 8, 2004.
145-28-0023 | 03 | April 27, 2005.
145-28-0023 | 04 | November 7, 2005.
145-28-0023 | 05 | May 15, 2006.
145-28-0023 | 06 | October 31, 2006.
145-28-0023 | 07 | February 7, 2007.
145-28-0023 | 08 | May 25, 2007.
145-28-0023 | 09 | July 30, 2007.
145-28-0023 | 10 | October 28, 2007.
145LEG-28-0018 | Original | April 23, 2004.

Compliance (AMOCs)

(i)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(j) None.

Issued in Renton, Washington, on June 6, 2008.
Michael Kaszycki,
Acting Manager, Transport Airplane Directorate, Aircraft Certification Service.

[FR Doc. E8-13923 Filed 6-19-08; 8:45 am]

BILLING CODE 4910-13-P